DEPARTMENT OF DEFENSE

Department of the Army, Corps of Engineers

Notice of Availability for the Final Program Environmental Impact Statement/ Environmental Impact Report for the San Diego Creek Watershed Special Area Management Plan/Watershed Streambed Alteration Agreement Process, Orange County, CA

AGENCY: Army Corps of Engineers, DoD.

ACTION: Notice.

SUMMARY: Pursuant to section 102(2)(c) of the National Environmental Policy Act (NEPA) of 1969 (as amended), the U.S. Army Corps of Engineers, Los Angeles District, Regulatory Division (Corps), in coordination with the California Department of Fish and Game, Habitat Conservation Branch, South Coast Region (Department), has completed a Final Program Environmental Impact Statement/ Environmental Impact Report (EIS/EIR) (Volume III—Evaluation of and Response to Comments/Errata) for the Special Area Management Plan/Watershed Streambed Alteration Agreement (SAMP/WSAA) Process for the San Diego Creek Watershed, Orange County, California. The SAMP/WSAA Process establishes alternative permitting procedures for projects within the San Diego Creek Watershed that would alter the bed, bank, or channel of rivers, streams, and lakes and associated riparian habitats under the Department's jurisdiction, and discharge dredged or fill material into waters of the United States subject to the Corps jurisdiction. The SAMP/WSAA Process permitting procedures will improve the Corps and the Department's ability to evaluate such projects, as compared to the process each agency would normally follow in permitting such projects on a case-by-case basis.

The SAMP is comprised of the following four elements: an Analytical Framework that characterizes aquatic resource conditions for the San Diego Creek Watershed; modified watershed-specific permitting processes, including watershed-specific and resource-based permitting protocols and a mitigation framework; a Strategic Mitigation Plan that is based upon a riparian ecosystem restoration plan for the Watershed; and a Mitigation Coordination Program to achieve implementation of the Strategic Mitigation Plan and foster a coordinated approach to aquatic resource management in the San Diego Creek Watershed.

FOR FURTHER INFORMATION CONTACT: Questions or comments concerning the Final Program EIS/EIR should be directed to Ms. Corice Farrar, SAMP Project Manager, Regulatory Division, U.S. Army Corps of Engineers, Los Angeles District, P.O. Box 532711, 915 Wilshire Boulevard, Los Angeles, CA 90053-2325, (213) 452-3296. Alternatively, comments can be submitted electronically to Corice.J.Farrar@usace.army.mil.

SUPPLEMENTARY INFORMATION: Bound copies of the Final Program EIS/EIR will be made available to the public for review at the following library reference desks: University of California at Irvine, Langson Library (Irvine, California); Newport Beach Central Library (Newport Beach, California); Heritage Park Regional Library (Irvine, California); and Santa Ana Public Library (Santa Ana, California). A CD copy of the document may be obtained by contacting Ms. Farrar in writing at the address or e-mail above. Interested parties are invited to provide their comments on the Final Program EIS/EIR; such comments will to become a part of the official record and considered in the final decision. Written comments must be received on or before March 27, 2009 and should be submitted to the contact listed above. A Record of Decision (ROD) will be issued by the Corps no earlier than 30 days after this Notice of Availability. The Department intends prepare its findings, certify the Final Program EIS/EIR after the Corps issues its ROD, and issue a Notice of Determination. The 30-day NEPA review period and the CEQA 10-day waiting period shall run concurrently.

David J. Castanon,
Chief, Regulatory Division, U.S. Army Corps of Engineers, Los Angeles District.

[FR Doc. E9-4332 Filed 2-27-09; 8:45 am]

BILLING CODE 3710-KF-P